ENVIRONMENTAL PROTECTION AGENCY

[FRL-6868-2]

The National Advisory Council for Environmental Policy and Technology, (NACEPT) Standing Committee on Sectors

AGENCY: Environmental Protection Agency (EPA).

ACTION: Notification of Public Advisory NACEPT Standing Committee on Sectors Meeting; open meeting.

SUMMARY: Pursuant to the Federal Advisory Committee Act, Public Law 92-463, notice is hereby given that the Standing Committee on Sectors will meet on the date and time described below. The meeting is open to the public. Seating at the meeting will be a first-come basis and limited time will be provided for public comment. For further information concerning this meeting, please contact the individual listed with the announcement below.

NACEPT Standing Committee on Sectors; September 27-28, 2000

Notice is hereby given that the Environmental Protection Agency will hold an open meeting of the NACEPT Standing Committee on Sectors on Wednesday, September 27, 2000 from 9 am-5 pm, and Thursday, September 28, 2000 from 8:30 am-12 pm. The meeting will be held at RESOLVE, Suite 275, 1255 23rd St., NW., Washington, DC 20037, phone (202) 965-6387.

The agenda for the meeting will be focused primarily on discussion and endorsement of a 5-yr Sector Program Plan. Public comment is planned for 4:45 pm on September 27. A final Agenda can be obtained at the meeting, or by contacting the Designated Federal Officer, as noted below.

SUPPLEMENTARY INFORMATION: NACEPT is a federal advisory committee under the Federal Advisory Committee Act, Public Law 92463. NACEPT provides advice and recommendations to the Administrator and other EPA officials on a broad range of domestic and international environmental policy issues. NACEPT consists of a representative cross-section of EPA's partners and principal constituents who provide advice and recommendations on policy issues and serve as a sounding board for new strategies that the Agency is developing.

In follow-up to completion of work by EPA's Common Sense Initiative (CSI) Council, the Administrator asked NACEPT to create a Standing Committee on Sectors. This Committee began its work in March 1999 and provides a multi-stakeholder forum through which the Agency can continue to receive advice and recommendations on sector-based approaches to environmental protection. (A sector is generally defined a discrete production system of the economy, e.g., petroleum refining, printing, metal finishing.) Further information on sectors is available electronically on our web site at http.//www.epa.gov/sectors.

For further information concerning the NACEPT Standing Committee on Sectors, including the upcoming meeting, contact Kathleen Bailey, Designated Federal Officer (DFO), on (202) 260-3413, or E-mail: bailey.kathleen@epa.gov.

Inspection of Subcommittee Documents: Documents relating to the above topics will be publicly available at the meeting. Thereafter, key documents and the minutes of the meeting will be available electronically on the web site, or by calling the DFO.

Dated: September 6, 2000.
Robert S. Benson,
Acting Designated Federal Officer.

[FR Doc. 00-23377 Filed 9-11-00; 8:45 am]

BILLING CODE 6560-50-P